RAINROAD RETIREMENT BOARD

Proposed Collection; Comment Request

SUMMARY: In accordance with the requirement of section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection:

Application to Act as Representative Payee; OMB 3220-0052. Under Section 12 of the Railroad Retirement Act, the Railroad Retirement Board (RRB) may pay benefits to a representative payee when an employee, spouse or survivor annuitant is incompetent or is a minor. A representative payee may be a court-appointed guardian, a statutory conservator or an individual selected by the RRB. The procedures pertaining to the appointment and responsibilities of a representative payee are prescribed in 20 CFR part 266.

The forms furnished by the RRB to apply for representative payee status, and for securing the information needed to support the application follow. RRB Form AA-5, Application for Substitution of Payee, obtains information needed to determine the selection of a representative payee who will serve in the best interest of the beneficiary. RRB Form G-478, Statement Regarding Patient's Capability to Manage Payments, obtains information about an annuitant's capability to manage payments. The form is completed by the annuitant's personal physician or by a medical officer, if the annuitant is in an institution. It is not required when a court has appointed an individual or institution to manage the annuitant's funds or, in the absence of such appointment, when the annuitant is a minor. The RRB also provides representative payees with a booklet at the time of their appointment. The booklet, RRB Form RB-5, Your Duties as Representative Payee-Representative Payee's Record, advises representative payees of their responsibilities under 20 CFR 266.9 and provides a means for the representative payee to maintain records pertaining to the receipt and use of RRB benefits. The booklet is provided for the representative payee's convenience. The RRB also accepts records that were kept by representative payee's as part of a common business practice.

Completion is voluntary. One response is requested of each respondent. The RRB is proposing non-burden impacting editorial changes to Forms AA-5 and G-478. No other changes are proposed. The estimated completion time is estimated at 17 minutes for FORM AA-5, 6 minutes for Form G-478 and 60 minutes for Booklet RB-5. The RRB estimates that approximately 3,000 Form AA-5's 2,000 Form G-478's and 15,300 RB-5's are completed annually.

The renewal of this information collection will continue the RRB's initiative to consolidate information collections by major functional areas. The purpose of the initiative is to bring related collection instruments together in one collection, better manage the instruments, and prepare for the electronic collection of this information. (A collection instrument can be an individual form, electronic collection, interview, or any other method that collects specific information from the public.)

As part of the OMB renewal process, the RRB also proposes that this collection (OMB 3220-0052), Application to Act as Representative Payee, be renamed Continuing RRA Entitlement. Upon approval by OMB, the RRB intends to merge the following OMB approved-related collection into this collection by the expected expiration date(s).

OMB collection No. | Title | RRB forms | Expected expiration date
3220-0107 | Request to Non-Railroad Employer for Information About Annuitant's Work and Earnings | RL-231-F | 1/31/2003
3220-0145 | Non-Resident Questionnaire | RRB-1001 | 6/30/2003
3220-0149 | Withholding Certificate for Railroad Retirement Monthly Annuity Payments | RRB-W-4P | 5/31/2001
3220-0151 | Representative Payee Monitoring | G-99A, G-99C | 7/31/2001
3220-0169 | Repayment of Debt | G-421F | 6/30/2003
3220-0176 | Representative Payee Parental Custody Monitoring | G-19D | 5/31/2002
3220-0178 | Aged Monitoring Questionnaire | G-19C | 7/31/2002
3220-0179 | Annual Earnings Questionnaire for Annuitants in Last Pre-Retirement Non-Railroad Employment | G-19L | 8/31/2002
3220-0183 | Statement of Claimant or Other Person | G-93 | 9/30/2003
3220-0184 | Earnings Information Request | G-19-F | 7/31/2001

Revisions to existing collection instruments and, occasionally, a new instrument related to this program function may be required during the three-year cycle of this information collection.

The RRB currently estimates the completion time for Form RL-231-F, Request to Non-Railroad Employer For information About Annuitant's Work and Earnings, at 30 minutes; Form RRB-1001, Nonresident Questionnaire, at 3 to 5 minutes; Form RRB-W-4P, Withholding Certificate for Railroad Retirement Payments at 109 minutes; Form G-99A, Representative Payee Report, at 20 minutes; Form G-99C, Representative Payee Evaluation Report at 24-31 minutes; Form G-421F, Repayment by Credit Card, at 5 minutes; Form G-19D, Parental Custody Report, at 5 minutes; Form G-19C, Aged Monitoring Questionnaire at 6 minutes; Form G-19L, Annual Earnings Questionnaire for Annuitants in Last Person Service, at 15 minutes; Form G-93, Statement of Claimant or Other Person, at 15 minutes; and Form G-19-F, Earnings Information Request at 8 minutes. After the last information collection is merged and other necessary adjustments are made, the resultant information collection is expected to total approximately 21,437 total burden hours.

A justification for each action described above (merge collection, revised collection instrument, new collection instrument) will be provided to OMB with a correction Change Worksheet (OMB Form 83-C) at the time the action occurs. With the next renewal of this collection, the RRB will update the information collection package to account for the consolidation and other interim adjustments.

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 00-27536 Filed 10-25-00; 8:45 am]

BILLING CODE 7905-01-M